DEPARTMENT OF ENERGY

Federal Energy Regulatory Commission

[Docket No. RP04-224-000]

B-R Pipeline Company; Notice of Tariff Filing

March 24, 2004.

Take notice that on March 19, 2004, B-R Pipeline Company (B-R) tendered for filing as part of its FERC Gas Tariff, Original Volume No. 1, the tariff sheets attached as Appendix A to the filing, with an effective date of May 1, 2004.

B-R states that the purpose of this filing is to comply with the Commission's Orders issued on October 3, 2003, in Docket No. CP01-418-000, and on February 18, 2004, in Docket No. CP01-418-001. B-R Pipeline Company, 105 FERC ¶ 61,025 (2003) and 106 FERC ¶ 61,166 (2004).

B-R states that complete copies of this filing are being provided to all parties listed on the official service list in Docket No. CP01-418-000 and to interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-701 Filed 3-30-04; 8:45 am]

BILLING CODE 6717-01-P